LIBRARY OF CONGRESS

Copyright Royalty Board

[Docket No. 20-CRB-0019-AU (Rockbot)]

Notice of Intent To Audit

AGENCY: Copyright Royalty Board, Library of Congress.

ACTION: Public notice.

SUMMARY: The Copyright Royalty Judges announce receipt from SoundExchange, Inc., (SoundExchange) of a notice of intent to audit the 2017, 2018, and 2019 statements of account submitted by Rockbot, Inc.'s Business Establishment Service concerning royalty payments they made pursuant to statutory license.

FOR FURTHER INFORMATION CONTACT: Anita Blaine, Program Specialist, by telephone at (202) 707-7658 or by email at crb@loc.gov.

SUMMARY INFORMATION: The Copyright Act, title 17 of the United States Code, grants to sound recordings copyright owners the exclusive right to publicly perform sound recordings by means of certain digital audio transmissions, subject to limitations. Specifically, the right is limited by the statutory license in section 112, which allows a service to make necessary ephemeral reproductions to facilitate the digital transmission of the sound recording, including for transmissions to business establishments. 17 U.S.C. 112(e).

Licensees may operate under this license provided they pay the royalty fees and comply with the terms set by the Copyright Royalty Judges. The rates and terms for the section 112(e) license applicable to business establishment services is set forth in 37 CFR 384.

As part of the terms set for this license, the Judges designated SoundExchange as the Collective, i.e., the organization charged with collecting the royalty payments and statements of account submitted by eligible licensees and with distributing royalties to the copyright owners and performers entitled to receive them under the section 112 license. See, e.g., 37 CFR 384.4.

As the Collective, SoundExchange may, only once a year, conduct an audit of a licensee for any or all of the prior three calendar years in order to verify royalty payments. SoundExchange must first file with the Judges a notice of intent to audit a licensee and deliver the notice to the licensee. See, e.g., 37 CFR 384.6.

On December 18, 2020, SoundExchange filed with the Judges a notice of intent to audit Rockbot, Inc.'s Business Establishment Service for the years 2017, 2018, and 2019. The Judges must publish notice in the Federal Register within 30 days of receipt of a notice announcing the Collective's intent to conduct an audit. See id. Today's notice fulfills this requirement with respect to SoundExchange's notice of intent to audit filed December 18, 2020.

Dated: January 5, 2021.
Jesse M. Feder,
Chief Copyright Royalty Judge.

[FR Doc. 2021-00181 Filed 1-7-21; 8:45 am]

BILLING CODE 1410-72-P